DEPARTMENT OF HEALTH AND HUMAN SERVICES

National Institutes of Health

National Library of Medicine; Amended Notice of Meeting

Notice is hereby given of a change in the meeting of the National Library of Medicine Board of Scientific Counselors, April 30, 2025, 9:00 a.m. to 2:45 p.m., which was published in the Federal Register on December 16, 2024, 89 FR 241, Page Number 101612.

This notice is being amended to announce that the meeting time will be changed to 9:00 a.m. to 4:30 p.m. and the meeting will be closed. The meeting will be virtual.

Dated: March 25, 2025.
Melanie J. Pantoja,
Program Analyst, Office of Federal Advisory Committee Policy.

[FR Doc. 2025-05410 Filed 3-27-25; 8:45 am]

BILLING CODE 4140-01-P